DEPARTMENT OF TRANSPORTATION

Pipeline and Hazardous Materials Safety Administration

49 CFR Part 192

[Docket No. PHMSA-2025-0127; Amdt. No. 192-147]

RIN 2137-AF96

Pipeline Safety: Standards Update—ASTM A578/A578M

AGENCY: Pipeline and Hazardous Materials Safety Administration (PHMSA), Department of Transportation (DOT).

ACTION: Direct final rule (DFR); request for comments.

SUMMARY: This DFR amends the PSRs to incorporate by reference the updated industry standard ASTM A578/A578M, Standard Specification for Straight-Beam Ultrasonic Examination of Rolled Steel Plates for Special Applications. This updated standard will maintain or improve public safety, prevent regulatory confusion, reduce compliance burdens on stakeholders, and satisfy a mandate in the National Technology Transfer and Advancement Act (NTTAA) of 1995.

DATES: The DFR is effective January 1, 2026, unless adverse comments are received by September 2, 2025. If adverse comments are received, notification will be published in the Federal Register before the effective date either withdrawing the rule (in its entirety or portions thereof) or issuing a new final rule which responds to adverse comments. The incorporation by reference of certain material listed in this rule is approved by the Director of the Federal Register as of January 1, 2026.

ADDRESSES: You may submit comments identified by the Docket Number PHMSA-2025-0127 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

For commenting instructions and additional information about commenting, see SUPPLEMENTARY INFORMATION.

FOR FURTHER INFORMATION CONTACT: Brianna Wilson, Transportation Specialist, by phone at (771) 215-0969 or email at brianna.wilson@dot.gov.

SUPPLEMENTARY INFORMATION:

I. General Discussion

Through this DFR, PHMSA is incorporating by reference an update to a voluntary, consensus industry technical standard already incorporated by reference within the pipeline safety regulations (PSRs, 49 Code of Federal Regulation (CFR) part 192). Specifically, PHMSA is updating the referenced version of the industry standard ASTM A578/A578M, Standard Specification for Straight-Beam Ultrasonic Examination of Rolled Steel Plates for Special Applications. This standard was reapproved in 2023 from the 2017 version.

A578/A578M presents the current state of knowledge and technology applicable to the detection of internal discontinuities via straight-beam, pulse-echo, ultrasonic examination of rolled carbon and alloy steel plates that are greater than 3/8ths of an inch thick. The standard also addresses the qualifications required for inspectors of such plates. Reference to the 2017 version will replace the existing reference within 49 CFR 192.112(c) to ASTM A578/A578M-96, “Standard Specification for Straight-Beam Ultrasonic Examination of Plain and Clad Steel Plates for Special Applications,” reapproved January 1, 2001.

This updated standard will maintain or improve public safety, prevent regulatory confusion, and reduce compliance burdens on stakeholders. The National Technology Transfer and Advancement Act (NTTAA) of 1995 (15 United States Code (U.S.C.) 272 (note)) directing Federal agencies to “use technical standards developed by voluntary consensus standard bodies instead of government-developed technical standards,” “when practical and consistent with applicable laws.” Consistent with that mandate, PHMSA incorporates more than 80 industry standards by reference into the PSRs; however, many standards become outdated over time as new editions become available. By updating these standards, PHMSA ensures better alignment of the PSRs with the latest innovations in operational and management practices, materials, testing, and technological advancements; enhances compliance by avoiding conflict between different versions of the same industry standards; and facilitates safety-focused allocation of resources by pipeline operators. PHMSA technical experts have also evaluated the changes in the updated version of the specification and concluded that it will either maintain or enhance the protection of public safety. Indeed, PHMSA had in 2022 proposed to update references within part 192 to an intermediate (2017) edition of this standard after preliminarily finding the revisions in that edition enhanced pipeline safety (87 FR 57213, 52723 (Aug. 19, 2022)); PHMSA's evaluation of the handful of changes introduced in the standard since 2017 yield a similar conclusion regarding their safety impact. PHMSA further concludes that the direct final rule's updated standard is technically feasible, reasonable, cost-effective, and practicable because of its respective anticipated commercial and public safety benefits; and because the benefits better support PHMSA's safety priorities compared to alternatives, thereby justifying any associated compliance costs.

Availability of Materials to Interested Parties

Pursuant to section 24 of the Pipeline Safety, Regulatory Certainty, and Job Creation Act of 2011 (Pub. L. 112-90, 49 U.S.C. 60102(p), as amended), “the Secretary may not issue a regulation pursuant to this chapter that incorporates any documents or portions thereof unless the documents or portions thereof are made available to the public, free of charge.” On November 7, 2014, the Office of the Federal Register issued a final rule that revised 1 CFR 51.5 to require every Federal agency to “[d]iscuss, in the preamble of the proposed rule, the ways that the materials it proposes to incorporate by reference are reasonably available to interested parties or how it worked to make those materials reasonably available to interested parties[.]”

PHMSA consequently has negotiated agreements to make viewable copies of the standards available to the public at no cost. ASTM International (ASTM) agreed to the public access requirements of the statutory mandate discussed above. The organization's mailing address and website is listed in 49 CFR part 192.

The ASTM standards incorporated in this final rule are available from the following website: https://www.astm.org/products-services/reading-room.html.

Additional information regarding standards availability can be found at https://www.phmsa.dot.gov/standards-rulemaking/pipeline/standards-incorporated-reference.

Commenting

Instructions: Please include the docket number PHMSA-2025-0127 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 U.S.C. 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. Pursuant to 49 Code of Federal Regulations (CFR) 190.343, you may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Brianna Wilson, Standards and Rulemaking Division, Pipeline and Hazardous Materials Safety Administration (PHMSA), 2nd Floor, 1200 New Jersey Avenue SE, Washington, DC 20590-0001, or by email at brianna.wilson@dot.gov. Any materials PHMSA receives that is not specifically designated as CBI will be placed in the public docket.

Docket: For access to the docket to read background documents or comments received, go to http://www.regulations.gov. Follow the online instructions for accessing the docket. Alternatively, you may review the documents in person at the street address listed above.

II. Regulatory Analysis and Notices

A. Legal Authority

This direct final rule is published under the authority of the Secretary of Transportation set forth in the Federal Pipeline Safety Laws (49 U.S.C. 60101 et seq.) and delegated to the PHMSA Administrator pursuant to 49 CFR 1.97. PHMSA has determined that this direct final rule—which updates an industry standard already incorporated by reference in the PSRs—is unlikely to elicit significant adverse comment. See 49 U.S.C. 60102(b)(6)(A); 49 CFR 190.339.

B. Executive Order 12866; Regulatory Planning and Review

Executive Order (E.O.) 12866 (“Regulatory Planning and Review”; 58 FR 51735 (Oct. 4, 1993)), as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

E.O. 12866 and DOT Order 2100.6B also require that PHMSA submit “significant regulatory actions” to the Office of Information and Regulatory Affairs (OIRA) within the Executive Office of the President's Office of Management and Budget (OMB) for review. This direct final rule is a not significant regulatory action pursuant to E.O. 12866; it also has not designated this rule as a “major rule” as defined by the Congressional Review Act (5 U.S.C. 801 et seq.).

PHMSA has complied with the requirements in E.O. 12866 as implemented by DOT Order 2100.6B and that this direct final rule may result in cost savings by reducing regulatory burdens and regulatory uncertainty for pipeline facility operators. In fact, updates to consensus industry standards are generally accepted and followed on a voluntary basis throughout most of the pipeline industry. PHMSA understands that most pipeline operators already purchase and voluntarily apply industry standards—including the updated standard that is the subject of this rulemaking—within their ordinary business practices. Incorporation of the updated version of these standards within the PSRs will help ensure that the industry is not forced to incur the additional cost of complying with different versions of the same standard. The cost savings of this rulemaking could not be quantified.

C. Executive Orders 14192 and Executive Order 14219

This direct final rule is a deregulatory action pursuant to E.O. 14192 (“Unleashing Prosperity Through Deregulation”; 90 FR 9065 (Feb. 25, 2025)). PHMSA estimates that the total costs of the direct final rule on the regulated community will be less than zero. Nor do the proposals herein implicate any of the factors identified in section 2(a) of E.O. 14219 (“Ensuring Lawful Governance and Implementing the President's `Department of Government Efficiency' Deregulatory Initiative”) indicative that a regulation is “unlawful . . . [or] that undermine[s] the national interest.” (90 FR 10583 (Feb. 25, 2025).

D. Energy-Related Executive Orders 13211, 14154, and 14156

The President has declared in E.O. 14156 (“Declaring a National Energy Emergency”; 90 FR 8353 (Jan. 29, 2025)) a national emergency to address America's inadequate energy development production, transportation, refining, and generation capacity. Similarly, E.O. 14154 (“Unleashing American Energy”; 90 FR 8353 (Jan. 29, 2025)) asserts a Federal policy to unleash American energy by ensuing access to abundant supplies of reliable, affordable energy from (inter alia) the removal of “undue burden[s]” on the identification, development, or use of domestic energy resources such as PHMSA-jurisdictional gasses and hazardous liquids. PHMSA finds this direct final rule is consistent with each of E.O. 14156 and E.O. 14154. The direct final rule will give affected pipeline operators the benefit of using the updated standard to maintain or improve public safety, prevent regulatory confusion, and reduce compliance burdens on stakeholders. PHMSA therefore expects the regulatory amendments in this direct final rule will in turn increase national pipeline transportation capacity and improve pipeline operators' ability to provide abundant, reliable, affordable natural gas and in response to residential, commercial, and industrial demand.

However, this direct final rule is not a “significant energy action” under E.O. 13211 (“Actions Concerning Regulations That Significantly Affect Energy Supply, Distribution, or Use”; 90 FR 8353 (Jan. 29, 2025)), which requires Federal agencies to prepare a Statement of Energy Effects for any “significant energy action.” Because this direct final rule is not a significant action under E.O. 12866, it will not have a significant adverse effect on supply, distribution, or energy use; OIRA has therefore not designated this direct final rule as a significant energy action.

E. Executive Order 13132: Federalism

PHMSA analyzed this direct final rule in accordance with the principles and criteria contained in E.O. 13132 (“Federalism”; 64 FR 43255 (Aug. 10, 1999)) and the Presidential Memorandum (“Preemption”) published in the Federal Register on May 22, 2009 (74 FR 24693). E.O. 13132 requires agencies to assure meaningful and timely input by State and local officials in the development of regulatory policies that may have “substantial direct effects on the States, on the relationship between the National Government and the States, or on the distribution of power and responsibilities among the various levels of government.”

While the direct final rule may operate to preempt some State requirements, it will not impose any regulation that has substantial direct effects on the States, the relationship between the National Government and the States, or the distribution of power and responsibilities among the various levels of government. Section 60104(c) of Federal Pipeline Safety Laws prohibits certain State safety regulation of interstate pipelines. Under Federal Pipeline Safety Laws, States that have submitted a current certification under section 60105(a) can augment Federal pipeline safety requirements for intrastate pipelines regulated by PHMSA but may not approve safety requirements less stringent than those required by Federal law. A State may also regulate an intrastate pipeline facility that PHMSA does not regulate. The preemptive effect of the regulatory amendments in this direct final rule is limited to the minimum level necessary to achieve the objectives of the Federal Pipeline Safety Laws. Therefore, the consultation and funding requirements of E.O. 13132 do not apply.

F. Regulatory Flexibility Act

The Regulatory Flexibility Act (5 U.S.C. 601 et seq.) requires Federal agencies to conduct a Final Regulatory Flexibility Analysis (FRFA) for a direct final rule subject to notice-and-comment rulemaking under the APA unless the agency head certifies that the rulemaking will not have a significant economic impact on a substantial number of small entities. PHMSA expects no affected operators will face significant costs because the reference is freely available, most operators are already in compliance, and compliance cost differences between standards are expected to be negligible. E.O. 13272 (“Proper Consideration of Small Entities in Agency Rulemaking”) obliges agencies to establish procedures promoting compliance with the Regulatory Flexibility Act. DOT posts its implementing guidance on a dedicated web page.

This direct final rule was developed in accordance with E.O. 13272 and DOT implementing guidance to ensure compliance with the Regulatory Flexibility Act. PHMSA expects that this direct final rule will relieve a regulatory burden and therefore PHMSA certifies the direct final rule will not have a significant impact on a substantial number of small entities.

G. Unfunded Mandates Reform Act of 1995

The Unfunded Mandates Reform Act (UMRA, 2 U.S.C. 1501 et seq.) requires agencies to assess the effects of Federal regulatory actions on State, local, and Tribal governments, and the private sector. For any proposed or direct final rule that includes a Federal mandate that may result in the expenditure by state, local, and Tribal governments, in the aggregate of $100 million or more (in 1996 dollars) in any given year, the agency must prepare, amongst other things, a written statement that qualitatively and quantitatively assesses the costs and benefits of the Federal mandate.

This direct final rule does not impose unfunded mandates under UMRA because it does not result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this direct final rule in accordance with NEPA and issues this Finding of No Significant Impact (FONSI), as it has determined that the rulemaking will not adversely affect safety and therefore will not significantly affect the quality of the human and natural environment.

I. Executive Order 13175

PHMSA analyzed this direct final rule according to the principles and criteria in E.O. 13175 (“Consultation and Coordination with Indian Tribal Governments”; 65 FR 67249 (Nov. 9, 2000)) and DOT Order 5301.1A (“Department of Transportation Tribal Consultation Policies and Procedures”). E.O. 13175 requires agencies to assure meaningful and timely input from Tribal government representatives in the development of rules that significantly or uniquely affect Tribal communities by imposing “substantial direct compliance costs” or “substantial direct effects” on such communities or the relationship or distribution of power between the Federal government and Tribes.

PHMSA assessed the impact of the direct final rule and determined that it will not significantly or uniquely affect Tribal communities or Indian Tribal governments. The rulemaking's regulatory amendments have a broad, national scope; therefore, this direct final rule will not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This rulemaking will not create, amend, or rescind any existing information collections.

K. Executive Order 13609 and International Trade Analysis

E.O. 13609 (“Promoting International Regulatory Cooperation”; 77 FR 26413 (May 4, 2012)) requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of the direct final rule and has determined that its regulatory amendments will not cause unnecessary obstacles to foreign trade.

L. Cybersecurity and Executive Order 14028

E.O. 14028 (“Improving the Nation's Cybersecurity”; 86 FR 26633 (May 17, 2021)) directed the Federal government to improve its efforts to identify, deter, and respond to “persistent and increasingly sophisticated malicious cyber campaigns.” PHMSA has considered the effects of the direct final rule and has determined that its regulatory amendments will not materially affect the cybersecurity risk profile for pipeline facilities.

List of Subjects in 49 CFR Part 192

Incorporation by reference, Natural gas, Pipeline safety.

For the reasons set forth above, PHMSA amends 49 CFR part 192 as follows:

PART 192—TRANSPORTATION OF NATURAL AND OTHER GAS BY PIPELINE: MINIMUM FEDERAL SAFETY STANDARDS

1. The authority citation for part 192 continues to read as follows:

Authority: 30 U.S.C. 185(w)(3), 49 U.S.C. 5103, 60101 et seq., and 49 CFR 1.97.

2. In § 192.7, revise paragraph (e)(6) to read as follows:

§ 192.7 What documents are incorporated by reference partly or wholly in this part?

* * * * *

(e) * * *

(6) ASTM A578/A578M-17 (2023), “Standard Specification for Straight-Beam Ultrasonic Examination of Rolled Steel Plates for Special Applications,” reapproved November 1, 2023, (ASTM A578/A578M); IBR approved for § 192.112(c).

* * * * *

Issued in Washington, DC, on June 26, 2025, under the authority delegated in 49 CFR 1.97.
Benjamin D. Kochman,
Acting Administrator.

[FR Doc. 2025-12122 Filed 6-27-25; 4:15 pm]

BILLING CODE 4910-60-P